DEPARTMENT OF COMMERCE

International Trade Administration

Trade Mission to the Caribbean Region in Conjunction With the Trade Americas—Opportunities in the Caribbean Region Conference, June 8-12, 2014

AGENCY: International Trade Administration, Commerce.

ACTION: Notice.

Mission Description

The United States Department of Commerce, International Trade Administration, is organizing a trade mission to the Caribbean region, in conjunction with the Department of Commerce's Trade Americas—Opportunities in the Caribbean Region Conference in Santo Domingo, Dominican Republic. Trade mission participants will arrive in Santo Domingo on June 8, and will attend the Trade Americas—Opportunities in the Caribbean Region Conference on June 9. Following the morning session of the conference, trade mission participants will participate in one-on-one consultations with U.S. and Foreign Commercial Service (US&FCS) Commercial Officers and/or Economic/Commercial Officers from the following U.S. Embassies in the Caribbean region: the Bahamas, Barbados and the Eastern Caribbean, Dominican Republic, Haiti, Jamaica, and Trinidad and Tobago. The following day, June 10, trade mission participants will engage in business-to-business appointments with Dominican companies. A limited number of trade mission participants will then travel to either the Bahamas, Barbados, Haiti, Jamaica, or Trinidad and Tobago (choosing only one market) for optional additional business-to-business appointments, each of which will be with a pre-screened potential buyer, agent, distributor or joint-venture partner.

The Department of Commerce's Trade Americas—Opportunities in the Caribbean Region Conference will focus on regional and industry-specific sessions, market entry strategies, logistics and trade financing resources as well as pre-arranged one-one-one consultations with US&FCS Commercial Officers and/or Department of State Economic/Commercial Officers with expertise in commercial markets throughout the region.

The mission is open to U.S. companies from a cross section of industries with growing potential in the Caribbean region, but is focused on U.S. companies in best prospects sectors such as Construction Equipment/Road Building Machinery, Medical Equipment and Devices/Pharmaceuticals, ICT, Energy Equipment and Services, and Safety and Security Equipment.

The combination of participation in the Trade Americas—Opportunities in the Caribbean Region Conference and business-to-business matchmaking appointments in the Dominican Republic and one of the other optional Caribbean countries, will provide participants with access to substantive information about and strategies for entering or expanding their business across the Caribbean region.

Commercial Setting

Bahamas

The Bahamian economy is driven by tourism and financial services. The Bahamas imports nearly all of its food and manufactured goods from the United States, and U.S. goods and services tend to be favored by Bahamians due to cultural similarities and exposure to U.S. advertising. Due to its dependence on tourism imports from the United States and trade with the United States, the Bahamian economy is notably affected by U.S. economic performance. There are no significant barriers to trade in the Bahamas. The Bahamas is currently reviewing proposals for alternative energy source projects. Best prospects sectors for U.S. exports include: Hotel Equipment; Franchise; Construction Equipment and Supplies; Consumer Products; and Drugs and Pharmaceutical Products.

Barbados

Barbados enjoys one of the highest per capita incomes in the region and an investment climate which benefits from its political stability and stable institutions. Financial and information services are important foreign exchange earners and thrive from having the same time zone as eastern U.S. financial centers and a highly educated workforce. A renewable energy bill that will open up the possibility of private energy production and selling back to the grid is expected to be passed this year. The tourism sector is expected to be upgraded through several ongoing construction projects. Best Prospects are Construction and Building Products; Consumer Goods; Agricultural Products and Equipment; Renewable Energy Technologies and Equipment; and Hotel and Restaurant Equipment.

Dominican Republic

With a population of 10 million consumers and a GDP of $59 billion, the Dominican Republic (DR) is the ninth largest economy in Latin America and the second largest in the Caribbean region. The United States represents, by far, the DR's largest trading partner. 43.6% of imports into the DR are of U.S. origin. There is extremely high receptivity to U.S. goods and services and U.S. product standards are generally accepted. Since the entry into force of the Dominican Republic-Central America-United States Free Trade Agreement (CAFTA-DR) in March 2007, bilateral trade has grown at a robust pace. By 2012, U.S. exports to the DR had grown by 33% over the pre-CAFTA days of 2006.

The strength of the trade relationship stems from close geographic proximity and the historic cultural and personal ties that many Dominicans have with the United States. Best prospect sectors for U.S. exports include: Automotive Parts, Hotel and Restaurant Equipment, Travel and Tourism, Safety and Security Equipment; Renewable Energy Technologies and Equipment; Telecommunications Services and Equipment; Printing and Graphic Arts Products and Equipment; Computers and Peripherals; Medical Equipment; and Construction and Building Products.

Haiti

The United States is Haiti's chief trading partner, with a 40% share of Haiti's import market. Haiti's economy is unique in the Caribbean region, with a large population of 10 million people but a relatively small $7.9 billion GDP. Haiti's geographic proximity and historically strong links with the United States contribute to a strong market for U.S. exports. Haiti imports more than 70% of market goods, and American businesses continue to do well in finding local buyers and distributors. Haiti has the lowest import tariffs in the Caribbean region. Best prospects sectors for U.S. exports include: Apparel and Textile; Machinery and Transport; Automotive Sector and Parts; Telecommunications Services and Equipment; Electrical Power Systems; Tourism; and Construction and Building Products/Equipment.

Jamaica

The United States is Jamaica's largest trading partner, accounting for almost 40% of Jamaica's total trade. A small economy of 2.8 million people and $15 billion GDP, Jamaica's geographic proximity and historically strong links with the United States have encouraged a wide range of U.S. investors and exporters to enter the Jamaican market. Best prospects sectors for U.S. exports include: Agriculture; Pharmaceuticals/Chemicals; Machinery/Transportation Equipment; Consumer Products and Tourism; ICT; Automobiles; Energy Production; and Telecommunications Services and Equipment.

Trinidad and Tobago

The United States is Trinidad and Tobago's largest trading partner, accounting for 33% of Trinidad and Tobago's total imports and purchasing 44% of its exports. A small country of 1.2 million people and a per capita GDP of $20,000, one of the highest in the region, Trinidad and Tobago's economy is dominated by the energy sector. Trinidad and Tobago's geographic proximity and strong links with the United States have encouraged a wide range of U.S. investors and exporters to enter Trinidad and Tobago's market. Best prospects sectors for U.S. exports include: Oil and Gas Field Machinery and Services; Food Processing and Packaging; Automotive Parts and Services; Telecommunications; Computers and Peripherals; Construction; Tourism; and Maritime Industries.

The foregoing analysis of export opportunities in the Caribbean Region is not intended to be exhaustive, but illustrative of the many opportunities available to U.S. businesses. Applications from U.S. companies will be considered and evaluated by the U.S. Department of Commerce on their market potential in the Caribbean region.

Mission Goals

The goal of the mission is to help participating U.S. companies find potential partners, agents, distributors, and joint venture partners in the Bahamas, Barbados, Dominican Republic, Haiti, Jamaica, and Trinidad and Tobago, laying the foundation for successful long-term ventures to take advantage of market opportunities in the Caribbean region. During the mission, the delegation will have access to US&FCS Commercial Officers, Commercial Specialists, and Department of State Economic/Commercial Officers from the markets in the region. They will learn about the many business opportunities in the Caribbean region, and gain first-hand market exposure. Trade mission participants already doing business in the Caribbean will have the opportunity to further advance business relationships and explore new opportunities.

Mission Scenario

The mission will include registration for the Trade Americas—Opportunities in the Caribbean Region Conference, including conference materials and admission to all sessions and networking events with industry and government representatives; industry and country market briefings; and logistical support. It also includes one-on-one appointments with pre-screened potential business partners in the Dominican Republic and one other Caribbean market.

U.S. delegation members will arrive in Santo Domingo, Dominican Republic on June 8, 2014. On the morning of June 9, trade mission participants will attend the Trade Americas—Opportunities in the Caribbean Region Conference, featuring regional and industry-specific sessions, market entry strategies, logistics and trade financing resources. On the afternoon of June 9, mission participants will engage in pre-arranged one-on-one consultations with US&FCS Commercial Officers and/or Department of State Economic/Commercial Officers with expertise in commercial markets throughout the region, as well as business service providers. On June 10, mission participants will stay in the Dominican Republic for business-to-business meetings. On June 11, a limited number of mission participants will travel to the Bahamas, Barbados, Haiti, Jamaica or Trinidad and Tobago (choosing one) for additional business-to-business meetings to be held on June 12.

Mission Timetable

June 8, 2014 Travel Day/Arrival in Dominican Republic

June 9, 2014 Dominican Republic

Morning: Registration and Trade Americas—Opportunities in the Caribbean Region Conference

Afternoon: U.S. Embassy Officer Consultations

Evening: Ambassador's Networking Reception

June 10, 2014 Dominican Republic

Business-to-Business Meetings

Optional

June 11-12, 2014 Business-to-Business Meetings in (choice of one market):

Option (A) Bahamas

Option (B) Barbados

Option (C) Haiti

Option (D) Jamaica

Option (E) Trinidad and Tobago

June 13, 2014 Travel Day

Participation Requirements

All parties interested in participating in the U.S. Department of Commerce Trade Mission to the Caribbean Region must complete and submit an application package for consideration by the Department of Commerce. All applicants will be evaluated on their ability to meet certain conditions and best satisfy the selection criteria as outlined below.

A minimum of 20 and a maximum of 30 companies will be selected to participate in the mission from the applicants on a rolling basis. During the registration process, applicants will be able to select their markets of choice and will receive a brief market assessment for each selected market. All selected participants will attend business-to-business meetings in the Dominican Republic. For those companies seeking to participate in additional business-to-business meetings in another market on June 12, we will select based on market suitability. The number of companies that may be selected for each country are as follows: 2-3 companies for the Bahamas; 2 companies for Barbados; 4-6 companies for Haiti; 4-6 companies for Jamaica; and 3 companies for Trinidad and Tobago. U.S. companies already doing business in, or seeking to enter the market in the Bahamas, Barbados, Dominican Republic, Haiti, Jamaica, and Trinidad and Tobago for the first time may apply.

Fees and Expenses

After a company has been selected to participate on the mission, a payment to the Department of Commerce in the form of a participation fee is required.

For business-to-business meetings in the Dominican Republic only (not traveling to an additional trade mission country), the participation fee will be $1,800 for a small or medium-sized enterprise (SME)* and $2,800 for large firms*.

For business-to-business meetings in the Dominican Republic and one other market, i.e. the Bahamas OR Barbados OR Haiti OR Jamaica OR Trinidad and Tobago, the participation fee will be $2,500 for a small or medium-sized enterprise (SME) ¹* and $3,500 for large firms*.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

The mission registration fee also includes the Trade Americas—Opportunities in the Caribbean Region Conference registration fee of $400 for one participant from each firm, market assessment for the region, market briefings, networking reception, lunch during the conference and coffee breaks, interpreters and transportation associated with the conference, and U.S. Embassy officer consultations. There will be a $200 fee for each additional firm representative (large firm or SME) that wishes to participate in business-to-business meetings after the conference on Tuesday in the Dominican Republic and on Thursday in any of the markets selected.

Expenses for travel, lodging, most meals, and incidentals will be the responsibility of each mission participant.

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51% U.S. content of the value of the finished product or service.

Selection Criteria for Participation

Selection will be based on the following criteria:

• Suitability of the company's products or services to each of the markets the company has expressed an interest in visiting as part of this trade mission.

• Company's potential for business in each of the markets the company has expressed an interest in visiting as part of this trade mission.

• Consistency of the applicant's goals and objectives with the stated scope of the mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar on www.export.gov, the Trade Americas Web page at http://export.gov/tradeamericas/index.asp, and other Internet Web sites, press releases to the general and trade media, direct mail and broadcast fax, notices by industry trade associations and other multiplier groups and announcements at industry meetings, symposia, conferences, and trade shows.

Recruitment for the mission will begin immediately and conclude no later than Friday, April 4, 2014. The U.S. Department of Commerce will review applications and make selection decisions on a rolling basis until the maximum of 30 participants are selected. After April 4, 2014, companies will be considered only if space and scheduling constraints permit.

U.S. Trade Americas Team Contact Information

David Royce, U.S. Export Assistance Center—Fort Worth, TX, David.Royce@trade.gov, Tel: 817-684-5354.

Diego Gattesco, U.S. Export Assistance Center—Wheeling, WV, Diego.Gattesco@trade.gov, Tel: 304-243-5493.

Caribbean Region Contact Information

Isabella Cascarano, Senior Commercial Officer, U.S. Commercial Service—Dominican Republic, Isabella.Cascarano@trade.gov.

Maria Elena Portorreal, Regional Commercial Specialist, U.S. Commercial Service—Dominican Republic, Maria.Portorreal@trade.gov.

Elnora Moye,
Trade Program Assistant.

[FR Doc. 2014-01519 Filed 1-27-14; 8:45 am]

BILLING CODE 3510-DR-P